ENVIRONMENTAL PROTECTION AGENCY

[OPPT-2003-0026; FRL-7314-4]

Fifty-Second Report of the TSCA Interagency Testing Committee to the Administrator of the Environmental Protection Agency; Receipt of Report and Request for Comments

AGENCY: Environmental Protection Agency (EPA).

ACTION: Notice

SUMMARY: The Toxic Substances Control Act (TSCA) Interagency Testing Committee (ITC) transmitted its Fifty-Second Report to the Administrator of the EPA on May 30, 2003. In the 52nd ITC Report, which is included with this notice, the ITC is not revising the Priority Testing List. However, the ITC is revising the Voluntary Information Submissions Innovative Online Network (VISION).

In its 51st ITC Report, the ITC announced that it would consider revising its voluntary information submission procedures to encourage greater and more efficient use of its VISION. The ITC has reviewed its voluntary information submission procedures and considered industry comments discussed in the 51st ITC Report. At this time, the ITC is revising the VISION as outlined in the 52nd ITC Report, which is included in this notice and on the ITC web site.

DATES: Comments, identified by docket ID number OPPT-2003-0026, must be received on or before August 22, 2003.

ADDRESSES: Comments may be submitted electronically, by mail, or through hand delivery/courier. Follow the detailed instructions as provided in Unit I. of the SUPPLEMENTARY INFORMATION.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Dr. John D. Walker, ITC Director (7401), Environmental Protection Agency, 1200 Pennsylvania Ave., NW., Washington, DC 20460-0001; telephone number: (202) 564-7527; fax: (202) 564-7528; e-mail address: walker.johnd@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 (Chemical Manufacturing) and 32411 (Petroleum Refineries). Because this notice is directed to the general public and other entities may also be interested, the Agency has not attempted to describe all the specific entities that may be interested in this action. If you have any questions regarding the applicability of this action to a particular entity, consult the technical person listed under FOR FURTHER INFORMATION CONTACT.

B. How Can I Get Copies of this Document and Other Related Information?

1. Docket. EPA has established an official public docket for this action under docket identification (ID) number OPPT-2003-0026. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.You may also access additional information about the ITC at http://www.epa.gov/opptintr/itc/ or through the web site for the Office of Prevention, Pesticides and Toxic Substances (OPPTS) at http://www.epa.gov/opptsfrs/home/opptsim.htm/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e- mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPPT-2003-0026. The system is an “anonymous access” system, which means EPA will not know your identity, e-mail address, or other contact information unless you provide it in the body of your comment.

ii. E-mail. Comments may be sent by e-mail to oppt.ncic@epa.gov, Attention: Docket ID Number OPPT-2003-0026. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number-- OPPT-2003-0026. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

We invite you to provide your views and comments on the ITC 52nd Report. You may find the following suggestions helpful for preparing your comments:

1. Explain your views as clearly as possible.

2. Describe any assumptions that you used.

3. Provide copies of any technical information and/or data you used that support your views.

4. Provide specific examples to illustrate your concerns.

5. Make sure to submit your comments by the deadline in this notice.

6. To ensure proper receipt by EPA, be sure to identify the docket ID number assigned to this action in the subject line on the first page of your response. You may also provide the name, date, and Federal Register citation.

II. Background

The Toxic Substances Control Act (TSCA) (15 U.S.C. 260l et seq.) authorizes the Administrator of the EPA to promulgate regulations under section 4(a) requiring testing of chemicals and chemical mixtures in order to develop data relevant to determining the risks that such chemicals and chemical mixtures may present to health or the environment. Section 4(e) of TSCA established the ITC to recommend chemicals and chemical mixtures to the Administrator of the EPA for priority testing consideration. Section 4(e) of TSCA directs the ITC to revise the TSCA section 4(e) Priority Testing List at least every 6 months.

A. The ITC's 52nd Report

The 52nd ITC Report was transmitted to the EPA's Administrator on May 30, 2003, and is included in this notice. In the 52nd ITC Report, the ITC revises the VISION.

B. Status of the Priority Testing List

The current TSCA 4(e) Priority Testing List as of May 2003 can be found in Table 1 of the 52nd ITC Report, which is included in this notice.

List of Subjects

Environmental protection, Chemicals, Hazardous substances.

Dated: July 11, 2003.
Charles M. Auer,
Director, Office of Pollution Prevention and Toxics.

Fifty-Second Report of the TSCA Interagency Testing Committee to the Administrator, U.S. Environmental Protection Agency

Table of Contents

Summary

The TSCA Section 4(e) Priority Testing List (May 2003)

I. Background

II. TSCA Section 8 Reporting

A. TSCA Section 8 Reporting Rules

B. ITC's Use of TSCA Section 8 and Other Information

C. Previous and New Requests to Add Chemicals to TSCA Section 8(a) PAIR Rules

D. Previous and New Requests to Add Chemicals to TSCA Section 8(d) HaSDR Rules

III. ITC's Activities During this Reporting Period (November 2002 to May 2003): Voluntary Information Submissions Innovative Online Network (VISION)

IV. Revisions to the TSCA Section 4(e) Priority Testing List

A. Chemicals Added to the Priority Testing List

B. Chemicals Removed From the Priority Testing List

V. References

VI. The TSCA Interagency Testing Committee

SUMMARY

In this 52nd ITC Report, the ITC is not revising the Priority Testing List. However, the ITC is revising the Voluntary Information Submissions Innovative Online Network (VISION).

The TSCA section 4(e) Priority Testing List is Table 1 of this unit.

Table 1.— The TSCA Section 4(e) Priority Testing List (May 2003)
ITC Report | Date | Chemical name/Group | Action
31 | January 1993 | 13 Chemicals with insufficient dermal absorption rate data | Designated
32 | May 1993 | 16 Chemicals with insufficient dermal absorption rate data | Designated
35 | November 1994 | 4 Chemicals with insufficient dermal absorption rate data | Designated
37 | November 1995 | 2 Alkylphenols | Recommended
41 | November 1997 | 1 Alkylphenol | Recommended
42 | May 1998 | 3-Amino-5-mercapto-1,2,4-triazole | Recommended
42 | May 1998 | Glycoluril | Recommended
47 | November 2000 | 9 Indium compounds | Recommended
48 | May 2001 | Benzenamine, 3-chloro-2,6-dinitro- N,N-dipropyl-4-(trifluoromethyl)- | Recommended
49 | November 2001 | Stannane, dimethylbis[(1-oxoneodecyl)oxy]- | Recommended
50 | May 2002 | Benzene, 1,3,5-tribromo-2-(2-propenyloxy)- | Recommended
50 | May 2002 | 1-Triazene, 1,3-diphenyl- | Recommended
51 | November 2002 | 43 Vanadium compounds | Recommended

I. Background

The ITC was established by section 4(e) of the Toxic Substances Control Act (TSCA) “to make recommendations to the Administrator respecting the chemical substances and mixtures to which the Administrator should give priority consideration for the promulgation of a rule for testing under section 4(a).... At least every six months ..., the Committee shall make such revisions to the Priority Testing List as it determines to be necessary and transmit them to the Administrator together with the Committee's reasons for the revisions” (Public Law 94-469, 90 Stat. 2003 et seq., 15 U.S.C. 2601 et seq.). Since its creation in 1976, the ITC has submitted 51 semi-annual (May and November) reports to the EPA Administrator transmitting the Priority Testing List and its revisions. ITC reports are available from the ITC's web site(http://www.epa.gov/opptintr/itc) within a few days of submission to the Administrator and from http://www.epa.gov/fedrgstr/ after publication in the Federal Register. The ITC meets monthly and produces its revisions to the Priority Testing List with administrative and technical support from the ITC Staff and ITC Members and their U.S. Government organizations and contract support provided by EPA. ITC Members and Staff are listed at the end of this report.

II. TSCA Section 8 Reporting

A. TSCA Section 8 Reporting Rules

Following receipt of the ITC's report (and the revised Priority Testing List) by the EPA Administrator, the EPA's Office of Pollution Prevention and Toxics (OPPT) appends the chemicals added to the Priority Testing List to TSCA section 8(a) Preliminary Assessment Information Reporting (PAIR) and TSCA section 8(d) Health and Safety Data Reporting (HaSDR) rules. The PAIR rule requires producers and importers of Chemical Abstract Service (CAS)-numbered chemicals added to the Priority Testing List to submit production and exposure reports (http://www.epa.gov/opptintr/chemtest/pairform.pdf). The HaSDR rule requires producers, importers, and processors of all chemicals (including those with no CAS numbers) added to the Priority Testing List to submit unpublished health and safety studies under TSCA section 8(d) that must be in compliance with the revised HaSDR rule. (Ref. 1) All submissions must be received by the EPA within 90 days of the reporting rules Federal Register publication date. The reporting rules are automatically promulgated by OPPT unless otherwise requested by the ITC.

B. ITC's Use of TSCA Section 8 and Other Information

The ITC reviews the TSCA section 8(a) PAIR rule reports, TSCA section 8(d) HaSDR rule studies and other information that becomes available after the ITC adds chemicals to the Priority Testing List. Other information includes TSCA section 4(a) studies, TSCA section 8(c) submissions, TSCA section 8(e) “substantial risk” notices, “For Your Information” (FYI) submissions, unpublished data submitted to and from U.S. Government organizations represented on the ITC, published papers, as well as use, exposure, effects, and persistence data that are voluntarily submitted to the ITC by manufacturers, importers, processors, and users of chemicals recommended by the ITC. The ITC reviews this information and determines if data needs should be revised, if chemicals should be removed from the Priority Testing List or if recommendations should be changed to designations. To avoid duplicate reporting, the ITC carefully coordinates its information solicitations and reporting requirements with other national and international testing programs, e.g., the National Toxicology Program (NTP) (http://ntp-server.niehs.nih.gov/), the Organization for Economic Cooperation and Development (OECD) Screening Information Data Set (SIDS) Program (http://www.oecd.org) and EPA's High Production Volume (HPV) Challenge Program (http://www.epa.gov/opptintr/chemrtk/volchall.htm).

C. Previous and New Requests to Add Chemicals to TSCA Section 8(a) PAIR Rules

The following chemicals will be added to a TSCA section 8(a) PAIR rule: Benzenamine, 3-chloro-2,6-dinitro-N,N-dipropyl-4- (trifluoromethyl)- (CAS No. 29091-20-1) (Ref. 2); stannane, dimethylbis[(1-oxoneodecyl)oxy]- (CAS No. 68928-76-7), benzene, 1,3,5-tribromo-2-(2-propenyloxy)- (CAS No. 3278-89-5) and 1-triazene, 1,3-diphenyl- (CAS No.136-35-6) (Ref. 3); and 43 vanadium compounds (Ref. 4). At this time, there are no new requests to add chemicals to the TSCA section 8(a) PAIR rule.

D. Previous and New Requests to Add Chemicals to TSCA Section 8(d) HaSDR Rules

The ITC has requested in previous reports to the EPA Adminstrator that the following chemicals be added to TSCA section 8(d) HaSDR rules: H-1,2,4-triazole-3-thione, 5-amino-1,2-dihydro- (3-amino-5-mercapto-1,2,4-triazole) (CAS No. 16691-43-3) and imidazol[4,5-d]imidazole-2,5(1H,3H)-dione, tetrahydro- (glycoluril) (CAS No. 496-46-8) (Ref. 5); 9 indium compounds (Ref. 6); benzenamine, 3-chloro-2,6-dinitro-N,N-dipropyl-4-(trifluoromethyl)- (CAS No. 29091-20-1) (Ref. 2); and stannane, dimethylbis[(1-oxoneodecyl)oxy]- (CAS No. 68928-76-7), benzene, 1,3,5-tribromo-2-(2-propenyloxy)- (CAS No. 3278-89-5) and 1-triazene, 1,3-diphenyl- (CAS No.136-35-6) (Ref. 3). At this time, the ITC is requesting that the EPA not add vanadium compounds to the TSCA section 8(d) HaSDR rule to allow producers and importers of vanadium compounds an opportunity to voluntarily provide the information requested in section IV.A.3. of the 51st ITC Report (Ref. 4).

For 3H-1,2,4-triazole-3-thione, 5-amino-1,2-dihydro- (3-amino-5-mercapto-1,2,4-triazole) and imidazo[4,5-d]imidazole-2,5-(1H,3H)-dione, tetrahydro- (glycoluril), the ITC requests that the TSCA section 8(d) HaSDR rule require the submission of pharmacokinetics, subchronic toxicity, immunotoxicity, genotoxicity, carcinogenicity, reproductive effects and developmental toxicity, and ecological effects studies. Only studies for which 3-amino-5-mercapto-1,2,4-triazole or glycoluril is ≥ 90% of the test substance by weight should be submitted.

For the 9 indium compounds remaining on the Priority Testing List, the ITC requests that the TSCA section 8(d) HaSDR rule require the submission of pharmacokinetics, genotoxicity, subchronic and chronic toxicity, reproductive effects and developmental toxicity studies. Only studies where indium compounds are ≥ 90% of the test substance by weight should be submitted. Indium tin oxide was inadvertently listed in the 51st ITC Report with CAS No. 17906-67-7. The correct CAS number for indium tin oxide is 50926-11-9 as listed in the 47th ITC Report. Indium tin oxide with CAS No. 50926-11-9 will be added to the TSCA section 8(d) HaSDR rule.

For benzenamine, 3-chloro-2,6-dinitro-N,N-dipropyl-4- (trifluoromethyl)-, the ITC requests that the TSCA section 8(d) HaSDR rule require the submission of biodegradation, bioconcentration, pharmacokinetics, subchronic toxicity, mutagenicity, reproductive effects and developmental toxicity, carcinogenicity, and ecological effects studies. Only studies where benzenamine, 3-chloro-2,6-dinitro-N,N-dipropyl-4- (trifluoromethyl)- is ≥ 90% of the test substance by weight should be submitted.

For stannane, dimethylbis[(1-oxoneodecyl)oxy]-, the ITC requests that the TSCA section 8(d) HaSDR rule require the submission of hydrolysis, biodegradation, bioconcentration, pharmacokinetics, subchronic toxicity, mutagenicity, neurotoxicity, reproductive effects and developmental toxicity, carcinogenicity, and ecological effects studies. Only studies where stannane, dimethylbis[(1-oxoneodecyl)oxy]- is ≥ 90% of the test substance by weight should be submitted.

For benzene, 1,3,5-tribromo-2-(2-propenyloxy)-, the ITC requests that the TSCA section 8(d) HaSDR rule require the submission of biodegradation, bioconcentration, pharmacokinetics, subchronic toxicity, neurotoxicity, reproductive effects and developmental toxicity, carcinogenicity, and ecological effects studies. Only studies where benzene, 1,3,5-tribromo-2-(2-propenyloxy)- is ≥ 90% of the test substance by weight should be submitted.

For 1-triazene, 1,3-diphenyl-, the ITC requests that the TSCA section 8(d) HaSDR rule require the submission of pharmacokinetics, genotoxicity, subchronic and chronic toxicity, reproductive effects and developmental toxicity studies. Only studies where 1-triazene, 1,3-diphenyl- is ≥ 90% of the test substance by weight should be submitted.

At this time, there are no new requests to add chemicals to the TSCA Section 8(a) HaSDR Rule.

III. ITC's Activities During this Reporting Period (November 2002 to May 2003): Voluntary Information Submissions Innovative Online Network (VISION)

In its 51st ITC Report, the ITC announced that it would consider revising its voluntary information submission procedures to encourage greater and more efficient use of its VISION. The ITC has reviewed its voluntary information submission procedures and considered industry comments discussed in the 51st ITC Report. At this time, the ITC is revising the VISION as outlined in this unit. The revised VISION will be accessible on the ITC web site following submission of this 52nd ITC Report to the EPA Administrator.

1. The ITC will continue to acknowledge trade organizations and companies that voluntarily submit information in response to an ITC solicitation. During this reporting period, the ITC acknowledges the voluntary submissions of information from the Color Pigments Manufacturers Association on DEBITS chemicals and vanadium compounds and from the Indium Corporation of America on indium compounds as requested in previous ITC reports.

2. The ITC has requested that the EPA include ITC's solicitations for voluntary information submissions in the summary and body of the preambles that are prepared for publication of the ITC's reports in the Federal Register. This change should allow companies to readily determine if the ITC is soliciting voluntary information for chemicals they produce or import.

3. The ITC will notify major chemical trade associations by e-mail that new ITC reports have been posted to the ITC's web site (http://www.epa.gov/opptintr/itc/). The e-mails will include a summary of the report and announcements of new information solicitations. This change should increase awareness of the ITC information solicitations and encourage voluntary submission of data.

4. The voluntary information submissions should be submitted within 90 days of the date the ITC report is published in the Federal Register. Failure to voluntarily submit information in a timely manner may lead ITC to request that the EPA promulgate the appropriate TSCA section 8(a) and 8(d) reporting rules in a subsequent report to the EPA Administrator.

5. The ITC will accept hard copy or electronic voluntary information submissions. All submissions should be titled as ITC-FYI and should bear the document control number or document ID number of the ITC report for which the submission is being provided, e.g., the docket ID number for the 50th ITC Report is OPPT-2002-0026. Confidential Business Information (CBI) must be submitted as hard copies. Both sanitized (no CBI) and unsanitized (CBI) versions must be provided.

6. Information submitted voluntarily will not have to be re-submitted under a TSCA section 8(d) rule.

7. Voluntary information may be submitted by mail, in person or by courier, or electronically.

a. By mail. Document Control Office (7407), Office of Pollution Prevention and Toxics (OPPT), Environmental Protection Agency, 1200 Pennsylvania Ave., NW., Washington, DC 20460-0001.

b. In person or by courier. OPPT Document Control Office (DCO) in EPA East Bldg., Rm. 6428, 1201 Constitution Ave., NW., Washington, DC. The DCO is open from 8 a.m. to 4 p.m., Monday through Friday, excluding legal holidays. The telephone number for the DCO is (202) 564-8930.

c. Electronically. By e-mail to: oppt.ncic@epa.gov, or mail your computer disk to the address identified above. Do not submit any information electronically that you consider to be CBI. Electronic voluntary information submissions may be submitted as Microsoft Word, WordPerfect, Excel, Integrated Scientific Information System (ISIS) Base, or pdf (portable document format) files.

8. To assure rapid review, copies of all CBI and non-CBI voluntary information submissions should also be sent to: John D. Walker, ITC Director, Office Pollution Prevention Toxic (7401), Environmental Protection Agency, 1200 Pennsylvania Ave., NW., Washington, DC 20460-0001; e-mail: walker.johnd@epa.gov.

The ITC is continuing to discuss changes to the Electronic Health and Safety Data Reporting Form with the EPA along with other ways to improve electronic reporting of health and safety studies. To supplement the efforts to obtain studies in electronic format through VISION, the ITC Staff will continue to contact the producers and importers of ITC-recommended chemicals to obtain voluntary information submissions.

IV. Revisions to the TSCA Section 4(e) Priority Testing List

A. Chemicals Added to the Priority Testing List

At this time the ITC is not adding any chemicals to the Priority Testing List.

B. Chemicals Removed From the Priority Testing List

At this time the ITC is not removing any chemicals from the Priority Testing List.

V. References

1. EPA. 1998. Revisions to Reporting Regulations Under TSCA Section 8(d) (63 FR 15765, April 1, 1998) (FRL-5750-4). Available online at: http://www.epa.gov/fedrgstr/.

2. ITC. 2001. Forty-Eighth Report of the ITC. Federal Register (66 FR 51276, October 5, 2001) (FRL-6786-7). Available online at: http://www.epa.gov/fedrgstr/.

3. ITC. 2002. Fiftieth Report of the ITC. Federal Register (67 FR 49530, July 30, 2002) (FRL-7183-7). Available online at: http://www.epa.gov/fedrgstr/.

4. ITC. 2003. Fifty-First Report of the ITC. Federal Register (68 FR 8976, February 26, 2003) (FRL-7285-7). Available online at: http://www.epa.gov/fedrgstr/.

5. ITC. 1998. Forty-Second Report of the ITC. Federal Register (63 FR 42554, August 7, 1998) (FRL-5797-8). Available online at: http://www.epa.gov/fedrgstr/.

6. ITC. 2001. Forty-Seven Report of the ITC. Federal Register (66 FR 17768, April 3, 2001) (FRL-6763-6). Available online at: http://www.epa.gov/fedrgstr/.

VI. The TSCA Interagency Testing Committee

Statutory Organizations and Their Representatives

Council on Environmental Quality

Vacant

Department of Commerce

National Institute of Standards and Technology

Robert Huie, Member

Barbara C. Levin, Alternate

National Oceanographic and Atmospheric Administration

Thomas P. O'Connor, Member, Vice Chair

Teri Rowles, Alternate

Environmental Protection Agency

Gerry Brown, Member

Paul Campanella, Alternate

National Cancer Institute

Alan Poland, Member

David Longfellow, Alternate

National Institute of Environmental Health Sciences

Scott Masten, Member

William Eastin, Alternate

National Institute for Occupational Safety and Health

Mark Toraason, Member, Chair

Dennis W. Lynch, Alternate

National Science Foundation

Marge Cavanaugh, Member

Parag R. Chitnis, Alternate

Occupational Safety and Health Administration

Val H. Schaeffer, Member

Lyn Penniman, Alternate

Liaison Organizations and Their Representatives

Agency for Toxic Substances and Disease Registry

William Cibulas, Member

Daphne Moffett, Alternate

Consumer Product Safety Commission

Treye Thomas, Member

Jacqueline Ferrante, Alternate

Department of Agriculture

Clifford P. Rice, Member

Laura L. McConnell, Alternate

Department of Defense

Barbara Larcom, Member

Warren Jederberg, Alternate

José Centeno, Alternate

Department of the Interior

Barnett A. Rattner, Member

Food and Drug Administration

David Hatten, Member

Kirk Arvidson, Alternate

Ronald F. Chanderbhan, Alternate

National Library of Medicine

Vera W. Hudson, Member

National Toxicology Program

NIEHS, FDA, and NIOSH Members

Technical Support Contractor

Syracuse Research Corporation

ITC Staff

John D. Walker, Director

Norma S. L. Williams, Executive Assistant

TSCA Interagency Testing Committee, Office of Pollution Prevention and Toxics (7401), Environmental Protection Agency, 1200 Pennsylvania Ave., NW., Washington, DC 20460-0001; telephone number: (202) 564-7527; fax number: (202) 564-7528; e-mail address: williams.norma@epa.gov; url: http://www.epa.gov/opptintr/itc.

[FR Doc. 03-18615 Filed 7-22-03; 8:45 am]

BILLING CODE 6560-50-S